DEPARTMENT OF THE INTERIOR

National Park Service

[NPS-WASO-NRSS-EQD-SSB—NPS0036744; PX.P0306931A.00.1; OMB Control Number 1024-NEW]

Agency Information Collection Activities; Visitor Impacts and Experiences Related to Wildlife in Yellowstone National Park

AGENCY: National Park Service, Interior.

ACTION: Notice of information collection; request for comment.

SUMMARY: In accordance with the Paperwork Reduction Act of 1995 we, the National Park Service (NPS) are proposing a new information collection.

DATES: Interested persons are invited to submit comments on or before February 6, 2024.

ADDRESSES: Written comments on this information collection request (ICR) can be sent to the NPS Information Collection Clearance Officer (ADIR-ICCO), 13461 Sunrise Valley Drive, (MS 244) Reston, VA 20192, VA 20191 (mail); or phadrea_ponds@nps.gov (email). Please reference Office of Management and Budget (OMB) Control Number “1024-NEW (YELL Wildlife Survey)” in the subject line of your comments.

FOR FURTHER INFORMATION CONTACT: To request additional information about this ICR, contact Lauren Miller, Social Scientist, at lauren_miller@nps.gov (email) or 307-250-9404 (telephone). Please reference OMB Control Number 1024-NEW (YELL Wildlife Survey) in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary for the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by 54 U.S. Code § 100702, Yellowstone National Park (YELL) established its strategic priorities in 2019 that help to guide short- and long-term decision-making. Specifically, Strategic Priority #2 focuses on taking the actions necessary to strengthen, preserve, and protect YELL's natural and cultural resources, including their associated processes, systems, and values in an unimpaired condition. Actions to fulfill this priority include conducting scientific research to inform resource-related decision-making, park planning, and education. The NPS proposes this new information collection request, Visitor Impacts and Experiences Related to Wildlife in Yellowstone National Park, to use scientific research about visitor impacts and experiences to inform park planning and management.

The Northern region of Yellowstone National Park (e.g., Lamar Valley, Slough Creek) faces increased visitation as a result of wildlife viewing, which has led to issues of wildlife habituation. YELL wildlife managers, volunteers, and commercial use authorization (CUA) holders have substantial historical knowledge regarding human-wildlife conflicts in the park. This study seeks to expand that knowledge base by understanding visitors' perceptions and behaviors related to wildlife viewing and human-wildlife conflicts by employing on-site surveys with YELL visitors in the Lamar Valley during peak wolf-watching periods over the course of one winter, spring, and summer (January-August). Results from this study will provide park managers with information about visitor perceptions and behaviors associated with wildlife viewing and adaptive management approaches for reducing human-wildlife conflicts.

Title of Collection: Visitor Impacts and Experiences Related to Wildlife in Yellowstone National Park.

OMB Control Number: 1024-NEW.

Form Number: None.

Type of Review: New.

Respondents/Affected Public: Individuals and Households.

Total Estimated Number of Annual Responses: 588.

Estimated Completion Time per Response: 11 minutes.

Total Estimated Number of Annual Burden Hours: 108 Hrs.

Respondent's Obligation: Voluntary.

Frequency of Collection: Survey over one winter season.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2023-26939 Filed 12-7-23; 8:45 am]

BILLING CODE 4312-52-P